GENERAL SERVICES ADMINISTRATION

40 CFR 1900

41 CFR Chapters 101, 102, 105, 300, 301, and 302

48 CFR Chapter 5

48 CFR 6101 and 6102

Unified Agenda of Federal Regulatory and Deregulatory Actions

AGENCY: General Services Administration (GSA).

ACTION: Semiannual regulatory agenda.

SUMMARY: This agenda announces the proposed regulatory actions that GSA plans for the next 12 months and those that were completed since the spring 2018 edition. This agenda was developed under the guidelines of Executive Orders (E.O.) 12866, “Regulatory Planning and Review,” as amended, Executive Order 13771, “Reducing Regulation and Controlling Regulatory Costs,” and Executive Order 13563, “Improving Regulation and Regulatory Review.” GSA's purpose in publishing this agenda is to allow interested persons an opportunity to participate in the rulemaking process. GSA also invites interested persons to recommend existing significant regulations for review to determine whether they should be modified or eliminated. Published proposed and final rules may be reviewed in their entirety at the Government's rulemaking website at http://www.regulations.gov.

The complete Unified Agenda will be available online at www.reginfo.gov.

Because publication in the Federal Register is mandated for the regulatory flexibility agendas required by the Regulatory Flexibility Act (5 U.S.C. 602), GSA's printed agenda entries include only:

(1) Rules that are in the Agency's regulatory flexibility agenda, in accordance with the Regulatory Flexibility Act, because they are likely to have a significant economic impact on a substantial number of small entities; and

(2) Any rules that the Agency has identified for periodic review under section 610 of the Regulatory Flexibility Act.

Printing of these entries is limited to fields that contain information required by the Regulatory Flexibility Act's Agenda requirements. Additional information on these entries is available in the Unified Agenda published on the internet. In addition, for fall editions of the Agenda, the entire Regulatory Plan will continue to be printed in the Federal Register, as in past years, including GSA's regulatory plan.

FOR FURTHER INFORMATION CONTACT: Lois Mandell, Division Director, Regulatory Secretariat Division, 1800 F Street NW, 2nd Floor, Washington, DC 20405-0001, 202-501-2735.

Dated: July 27, 2018.

Jessica Salmoiraghi,

Associate Administrator, Office of Government-wide Policy.

General Services Administration—Proposed Rule Stage
Sequence No. | Title | Regulation Identifier No.
359 | General Services Administration Acquisition Regulation (GSAR); GSAR Case 2015-G506, Adoption of Construction Project Delivery Method Involving Early Industry Engagement (Reg Plan Seq No. 146) | 3090-AJ64
360 | General Services Acquisition Regulation (GSAR); GSAR Case 2016-G511, Contract Requirements for GSA Information Systems (Reg Plan Seq No. 147) | 3090-AJ84
361 | General Services Administration Acquisition Regulation (GSAR); GSAR Case 2016-G515, Cyber Incident Reporting (Reg Plan Seq No. 148) | 3090-AJ85
362 | Federal Permitting Improvement Steering Council (FPISC); FPISC Case 2018-001; Fees for Governance, Oversight, and Processing of Environmental Reviews and Authorizations (Reg Plan Seq No. 149) | 3090-AJ88
References in boldface appear in The Regulatory Plan in part II of this issue of the Federal Register.

General Services Administration—Final Rule Stage
Sequence No. | Title | Regulation Identifier No.
363 | GSAR Case 2008-G517, Cooperative Purchasing—Acquisition of Security and Law Enforcement Related Goods and Services (Schedule 84) by State and Local Governments Through Federal Supply Schedules (Reg Plan Seq No. 150) | 3090-AI68
364 | General Services Administration Acquisition Regulation (GSAR); GSAR Case 2013-G502, Federal Supply Schedule Contract Administration (Reg Plan Seq No. 151) | 3090-AJ41
365 | General Services Administration Acquisition Regulation (GSAR); GSAR Case 2015-G503, Construction Contract Administration | 3090-AJ63
366 | General Services Administration Acquisition Regulation (GSAR); GSAR Case 2019-G501, Ordering Procedures for Commercial e-Commerce Portals (Reg Plan Seq No. 152) | 3090-AK03
367 | General Services Administration Acquisition Regulation (GSAR); GSAR Case 2019-G502, Contractual Arrangements for Commercial e-Commerce Portals | 3090-AK04
References in boldface appear in The Regulatory Plan in part II of this issue of the Federal Register.

GENERAL SERVICES ADMINISTRATION (GSA)

Office of Acquisition Policy

Proposed Rule Stage

359. General Services Administration Acquisition Regulation (GSAR); GSAR Case 2015-G506, Adoption of Construction Project Delivery Method Involving Early Industry Engagement

Regulatory Plan: This entry is Seq. No. 146 in part II of this issue of the Federal Register.

RIN: 3090-AJ64

360. General Services Acquisition Regulation (GSAR); GSAR Case 2016-G511, Contract Requirements for GSA Information Systems

Regulatory Plan: This entry is Seq. No. 147 in part II of this issue of the Federal Register.

RIN: 3090-AJ84

361. General Services Administration Acquisition Regulation (GSAR); GSAR Case 2016-G515, Cyber Incident Reporting

Regulatory Plan: This entry is Seq. No. 148 in part II of this issue of the Federal Register.

RIN: 3090-AJ85

OFFICE OF GOVERNMENTWIDE POLICY

362. Federal Permitting Improvement Steering Council (FPISC); FPISC Case 2018-001; Fees for Governance, Oversight, and Processing of Environmental Reviews and Authorizations

Regulatory Plan: This entry is Seq. No. 149 in part II of this issue of the Federal Register.

RIN: 3090-AJ88

GENERAL SERVICES ADMINISTRATION (GSA)

Office of Acquisition Policy

Final Rule Stage

363. GSAR Case 2008-G517, Cooperative Purchasing—Acquisition of Security and Law Enforcement Related Goods and Services (Schedule 84) by State and Local Governments Through Federal Supply Schedules

Regulatory Plan: This entry is Seq. No. 150 in part II of this issue of the Federal Register.

RIN: 3090-AI68

364. General Services Administration Acquisition Regulation (GSAR); GSAR Case 2013-G502, Federal Supply Schedule Contract Administration

Regulatory Plan: This entry is Seq. No. 151 in part II of this issue of the Federal Register.

RIN: 3090-AJ41

365. General Services Administration Acquisition Regulation (GSAR); GSAR Case 2015-G503, Construction Contract Administration

E.O. 13771 Designation: Other.

Legal Authority: 40 U.S.C. 121(c)

Abstract: The General Services Administration (GSA) is amending the General Services Administration Acquisition Regulation (GSAR) to revise sections of GSAR part 536, Construction and Architect-Engineer Contracts, and related parts, to maintain consistency with the Federal Acquisition Regulation (FAR) and to incorporate updated construction contract administration policies and procedures.

The changes fall into five categories: (1) Incorporating existing Agency policy previously issued through other means, (2) reorganizing to better align with the FAR, (3) incorporating Agency unique clauses, (4) incorporating supplemental material, and (5) editing for clarity.

Timetable:

Action | Date | FR Cite
NPRM | 09/09/16 | 81 FR 62434
NPRM Comment Period End | 11/08/16 |
Final Rule | 02/00/19 |

Regulatory Flexibility Analysis Required: Yes.

Agency Contact: Tony Hubbard, Procurement Analyst, General Services Administration, 1800 F Street NW, Washington, DC 20405, Phone: 202 357-5810, Email: tony.hubbard@gsa.gov.

RIN: 3090-AJ63

366. • General Services Administration Acquisition Regulation (GSAR); GSAR Case 2019-G501, Ordering Procedures for Commercial E-Commerce Portals

Regulatory Plan: This entry is Seq. No. 152 in part II of this issue of the Federal Register.

RIN: 3090-AK03

367. • General Services Administration Acquisition Regulation (GSAR); GSAR Case 2019-G502, Contractual Arrangements for Commercial E-Commerce Portals

E.O. 13771 Designation: Other.

Legal Authority: 40 U.S.C. 121(c)

Abstract: The General Services Administration (GSA) is amending the General Services Administration Acquisition Regulation (GSAR) to reflect a deviation from the Federal Acquisition Regulation (FAR) requirements applicable to acquisitions of commercial items and commercially available off-the-shelf items. The deviation will be applicable to the arrangements GSA enters into under the program required by section 846 of the National Defense Authorization Act for Fiscal Year 2018, Procurement Through Commercial e-Commerce Portals. The rule will establish the streamlined and simplified terms and conditions that will apply to GSA's contracts with providers of commercial e-commerce portals, as well as to the suppliers selling on the portals.

Timetable:

Action | Date | FR Cite
Interim Final Rule | 03/00/19 |
Interim Final Rule Comment Period End | 05/00/19 |

Regulatory Flexibility Analysis Required: Yes.

Agency Contact: Matthew McFarland, Legislative and Regulatory Advisor, General Services Administration, 1800 F Street NW, Washington, DC 20405, Phone: 301 758-5880, Email: matthew.mcfarland@gsa.gov.

RIN: 3090-AK04

[FR Doc. 2018-24197 Filed 11-15-18; 8:45 am]

BILLING CODE 6820-34-P